DEPARTMENT OF HEALTH AND HUMAN SERVICES

Centers for Disease Control and Prevention

[Docket Number NIOSH-227]

Request for Information on Conditions Relating to Cancer To Consider for the World Trade Center Health Program

AGENCY: National Institute for Occupational Safety and Health (NIOSH) of the Centers for Disease Control and Prevention (CDC), Department of Health and Human Services (HHS).

ACTION: Notice and extension of public comment period.

SUMMARY: On March 8, 2011, the Director of the National Institute of Occupational Safety and Health (NIOSH) of the Centers for Disease Control and Prevention (CDC) published a notice in the Federal Register (76 FR 12740) requesting information from the public on three questions regarding conditions relating to cancer for consideration under the World Trade Center Health Program. Written comment was to be received by March 31, 2011. NIOSH has received comment about extending the request for information to include persons living and working in the affected area. In consideration of that comment, the Director of NIOSH is modifying one of the questions posed in the Federal Register and extending the public comment period to April 29, 2011.

DATES: Written or electronic comments must be received on or before April 29, 2011. Please refer to SUPPLEMENTARY INFORMATION for additional information.

ADDRESSES: You may submit comments, identified by docket number NIOSH-227, by any of the following methods:

• Mail: NIOSH Docket Office, Robert A. Taft Laboratories, MS-C34, 4676 Columbia Parkway, Cincinnati, OH 45226.

• Facsimile: (513) 533-8285.

• E-mail: nioshdocket@cdc.gov.

All information received in response to this notice will be available for public examination and copying at the NIOSH Docket Office, 4676 Columbia Parkway, Cincinnati, Ohio 45226. The comment period for NIOSH-227 will close on April 29, 2011. All comments received will be available on the NIOSH Docket Web page at http://www.cdc.gov/niosh/docket, and comments will be available in writing by request. NIOSH includes all comments received without change in the docket and the electronic docket, including any personal information provided.

FOR FURTHER INFORMATION CONTACT: Dori Reissman, M.D., NIOSH, Patriots Plaza Suite 9200, 395 E. St., SW., Washington, DC 20201, telephone (202) 245-0625 or e-mail nioshdocket@cdc.gov.

SUPPLEMENTARY INFORMATION: The Director of the National Institute for Occupational Safety and Health (NIOSH) of the Centers for Disease Control and Prevention (CDC) serves as the World Trade Center (WTC) Program Administrator for certain functions related to the WTC Health Program established by the James Zadroga 9/11 Health and Compensation Act (Pub. L. 111-347). In accordance with Section 3312(a)(5)(A) of that Act, the WTC Program Administrator is conducting a review of all available scientific and medical evidence to determine if, based on the scientific evidence, cancer or a certain type of cancer should be added to the applicable list of health conditions covered by the World Trade Center Health Program.

The WTC Program Administrator is requesting information on the following: (1) Relevant reports, publications, and case information of scientific and medical findings where exposure to airborne toxins, any other hazard, or any other adverse condition resulting from the September 11, 2001 terrorist attacks, is substantially likely to be a significant factor in aggravating, contributing to, or causing cancer or a type of cancer; (2) clinical findings from the Clinical Centers of Excellence providing monitoring and treatment services to WTC responders (i.e., those persons who performed rescue, recovery, clean-up and remediation work on the WTC disaster sites) and community members directly exposed to the dust cloud, gases and vapors on 9/11/01 and those living and working in the affected area; and (3) input on the scientific criteria to be used by experts to evaluate the weight of the medical and scientific evidence regarding such potential health conditions.

Dated: March 22, 2011.
John Howard,
Director, National Institute for Occupational Safety and Health, Centers for Disease Control and Prevention.

[FR Doc. 2011-7299 Filed 3-28-11; 8:45 am]

BILLING CODE 4163-19-P